DEPARTMENT OF THE INTERIOR

Bureau of Land Management

[AZ-933-03, 5410-10-A500; AZA-32409]

Notice of Receipt of Conveyance of Mineral Interest Application

AGENCY: Bureau of Land Management, Interior.

ACTION: Notice of minerals segregation.

SUMMARY: The reserved Federally-owned mineral interest, in the private lands described in this notice, aggregating approximately 4,000 acres, are segregated and made unavailable for filings under the general mining laws and the mineral leasing laws. The segregation is in response to an application for mineral conveyance under section 209 of the Federal Land Policy and Management Act of October 21, 1976 (43 U.S.C. 1719).

FOR FURTHER INFORMATION CONTACT: Vivian Titus, Land Law Examiner, Arizona State Office, 222 N. Central Ave., Phoenix, Arizona 85004, (602) 417-9598.

SUPPLEMENTARY INFORMATION:

Gila and Salt River Base and Meridian, Yavapai County, Arizona

T. 4 N., R. 5 W.,

sec. 3, SW¼;

sec. 5, SE¼, SW¼;

sec. 8, W½;

sec. 9, All.

sec. 10, SE¼;

sec. 11, SE¼;

sec. 13, NW¼;

sec. 14, E½, SW¼;

sec. 15, W½, NE¼;

sec. 17, E½;

sec. 22, NE¼, SE¼;

sec. 23, W½, NE¼.

The reserved Federal mineral interests will be conveyed in whole or in part upon completion of a mineral examination. The purpose is to allow consolidation of surface and subsurface minerals ownership where there are no known mineral values or in those instances where the Federal mineral interest reservation interferes with or precludes appropriate nonmineral development and such development is a more beneficial use of the land than the mineral development. Upon publication of this Notice of Segregation in the Federal Register as provided in 43 CFR 2720.1-1(b), the mineral interests owned by the United States in the lands covered by the mineral conveyance application are segregated to the extent that they will not be subject to appropriation under the public land laws, including the mining and mineral leasing laws. The segregative effect shall terminate upon: issuance of a patent or deed of such mineral interest; upon final rejection of the mineral conveyance application; or October 11, 2005, whichever occurs first.

Dated: September 17, 2003.
Carl Rountree,
Associate State Director.

[FR Doc. 03-25613 Filed 10-8-03; 8:45 am]

BILLING CODE 4310-32-P